DEPARTMENT OF DEFENSE

Department of the Army, Corps of Engineers

Notice of Intent To Prepare an Environmental Impact Statement for the Byram River Basin Flood Risk Management Study

AGENCY: U.S. Army Corps of Engineers, DoD.

ACTION: Notice of intent.

SUMMARY: Pursuant to the requirements of the National Environmental Policy Act (NEPA), the U.S. Army Corps of Engineers, New York District (Corps) in partnership with the Town of Greenwich as the non-federal sponsor, is preparing an integrated Feasibility Report/Environmental Impact Statement (FR/EIS) for the proposed Byram River Basin Flood Risk Management Feasibility Study. The study is assessing the feasibility of flood risk management alternatives to be implemented within the congressionally authorized study area with a specific emphasis on the Town of Greenwich, Fairfield County, Connecticut and Port Chester, Westchester County, New York.

ADDRESSES: U.S. Army Corps of Engineers, New York District, Programs and Project Management Division, Civil Works Programs Branch, 26 Federal Plaza, Room 2127, New York, NY 10279-0090. Pertinent information about the study can be found at: www.nan.usace.army.mil/Byram. Send written comments and suggestions concerning the scope of issues to be evaluated within the EIS to: byram.river@usace.army.mil.

FOR FURTHER INFORMATION CONTACT: Questions about the overall Byram River Basin Flood Risk Management Feasibility Study should be directed to Rifat Salim, Project Manager, U.S. Army Corps of Engineers, New York District, Programs and Project Management Division, Civil Works Programs Branch, 26 Federal Plaza, Room 2127, New York, NY 10279-0090; Phone: (917) 790-8215; email: Rifat.Salim@usace.army.mil.

SUPPLEMENTARY INFORMATION:

1. Background

The U.S. Army Corps of Engineers (Corps), in partnership with the Town of Greenwich as the non-Federal sponsor, is undertaking this study. The Town of Greenwich and Village of Port Chester have been subjected to repeated, severe flooding caused by overflow of the Byram River due to precipitation of high intensity, large amounts, or prolonged duration. The Byram River Basin study was authorized by a resolution of the Committee on Transportation and Infrastructure, Docket 2779, dated May 2nd, 2007.

A Feasibility Cost Sharing Agreement (FCSA) was executed on August 29, 2012 with the Town of Greenwich. The preliminary alternative analyses was completed early 2015 and identified Alternative #2a—Nonstructural Within the 10-yr Floodplain, and Alternative #5—Replacement of the Route 1 Highway Bridges, as each having a Benefit Cost Ratio over one and are being moved forward for further evaluation for eventual identification of the Tentatively Selected Plan.

2. Project Area

The project area encompasses the portion of the Byram River located from southern section of the Pemberwick neighborhood to the Rt. 1 bridges in the Town of Greenwich, Fairfield County, Connecticut and Village of Port Chester, Westchester County, New York.

Public Participation

The Corps and the Town of Greenwich are currently anticipating hosting a NEPA Scoping Meeting in November 2017. Public notices announcing the meeting date, time, location and agenda will be published in the appropriate local newspapers, the Town of Greenwich Web page and on the Corps' New York District Web page (see the ADDRESSES section) and will be distributed to the local stakeholders and known interested parties.

A scoping comment period of 30 days will be established from the scheduled date of the meeting to allow agencies, organizations and individuals to submit comments, questions and/or concerns regarding the Feasibility Study. Comments, concerns and information submitted to the Corps will be evaluated and considered during the development of the Draft EIS.

Lead and Cooperating Agencies

The Corps is the lead federal agency for the preparation of the FR/EIS and meeting the requirements of the National Environmental Policy Act and the NEPA Implementing Regulations of the President's Council on Environmental Quality (40 CFR 1500-1508). Federal agencies interested in participating as a Cooperating Agency are requested to submit a letter of intent to Colonel Thomas D. Asbery, District Engineer (see ADDRESSES). The preparation of the FR/EIS will be coordinated with the States of New York and Connecticut, Town of Greenwich and local municipalities with discretionary authority relative to the proposed actions. The Draft FR/EIS is currently scheduled for distribution to the public in June 2018.

Dated: November 14, 2017.
Peter M. Weppler,
Chief, Environmental Analysis Branch, Planning Division.

[FR Doc. 2017-25273 Filed 11-21-17; 8:45 am]

BILLING CODE 3720-58-P